DEPARTMENT OF EDUCATION

Applications for New Awards; Personnel Development To Improve Services and Results for Children With Disabilities—Early Childhood Personnel Center

AGENCY: Office of Special Education and Rehabilitative Services, Department of Education.

ACTION: Notice.

Overview Information:

Personnel Development to Improve Services and Results for Children with Disabilities—Early Childhood Personnel Center.

Notice inviting applications for new awards for fiscal year (FY) 2012.

Catalog of Federal Domestic Assistance (CFDA) Number: 84.325B.

DATES:

Applications Available: June 18, 2012.

Deadline for Transmittal of Applications: July 18, 2012.

Full Text of Announcement

I. Funding Opportunity Description

Purpose of Program: The purposes of this program are to (1) help address State-identified needs for highly qualified personnel in special education, related services, early intervention, and regular education to work with infants, toddlers, and children with disabilities; and (2) ensure that those personnel have the necessary skills and knowledge, derived from practices that have been determined through scientifically based research and experience, to be successful in serving those children.

Priority: In accordance with 34 CFR 75.105(b)(2)(iv), this priority is from allowable activities specified in the statute (see sections 662 and 681 of the Individuals with Disabilities Education Act (IDEA)).

Absolute Priority: For FY 2012 and any subsequent year in which we make awards from the list of unfunded applicants from this competition, this priority is an absolute priority. Under 34 CFR 75.105(c)(3), we consider only applications that meet this priority.

This priority is:

Early Childhood Personnel Center.

Background:

The majority of professionals who make up the current early childhood workforce are not adequately prepared to provide effective services and evidence-based interventions that lead to improved developmental and learning outcomes for infants, toddlers, and preschool children with disabilities and their families (National Governor's Association, 2010). In a survey of IDEA Part C and Part B, Section 619 coordinators, more than half of the States reporting indicated that personnel currently employed in early intervention and preschool programs were not properly trained to work with infants, toddlers, and preschool children with disabilities and their families (Bruder, 2010). The Division for Early Childhood of the Council for Exceptional Children (DEC) and the National Association for the Education of Young Children (NAEYC) each has a set of early childhood personnel standards ¹ for personnel working with infants, toddlers, and preschool children and their families. The majority of States' personnel standards, however, do not align to these national standards (Stayton et al., 2009).

¹ For the purpose of this priority, “personnel standards” refers to a set of expectations or benchmarks conveyed as broad domains with associated core knowledge and skills organized into levels of expertise. Broad domains include promoting child development and learning, and core knowledge and skills involve knowing evidence-based practices validated for specific characteristics of learners and settings (National Professional Development Center on Inclusion (NPDCI), 2011).

To address the needs of States in this critical area, the Department plans to support, through this priority, the establishment and operation of an Early Childhood Personnel Center to improve professional development for personnel working with infants, toddlers, and preschool children with disabilities and their families, including those working in IDEA Part C and Part B preschool programs. This Center would support States in developing and implementing an integrated early childhood professional development system so that all personnel providing services to infants, toddlers, and preschool children with disabilities and their families can effectively serve those populations.

“Integrated early childhood professional development system” refers to a comprehensive system of preparation and ongoing development and support for early childhood personnel. Components of a statewide integrated early childhood professional development system include licensing and certification requirements, personnel standards and competencies,² preservice preparation, inservice training, and career pathways. Integrated systems cross all early childhood sectors (e.g., IDEA Part C, IDEA Part B preschool, Head Start, child care, State-funded Pre-K) (LeMoine, 2008; National Professional Development Center on Inclusion (NPDCI), 2010).

² For the purpose of this priority, “competencies” refers to the knowledge, skills, and dispositions providers must master to be effective (NPDCI, 2011).

The Department's Race to the Top—Early Learning Challenge (RTT-ELC) program recognizes the importance of having an integrated early childhood professional development system to support the development and learning of all young children. Thus, RTT-ELC encourages States to work closely with institutions of higher education (IHEs) to develop a common, statewide workforce knowledge and competency framework ³ for all early childhood educators.⁴ RTT-ELC also encourages States to improve the quality of these personnel by supporting professional development, career advancement opportunities, differentiated compensation, and incentives to improve their knowledge, skills, and abilities.

³ For the purpose of this priority, “workforce knowledge and competency framework” means a set of expectations that describes what early childhood educators (including those working with children with disabilities and English learners) should know and be able to do. The Workforce Knowledge and Competency Framework, at a minimum, (a) is evidence based; (b) incorporates knowledge and application of the State's early learning and development standards, the comprehensive assessment systems, child development, health, and culturally and linguistically appropriate strategies for working with families; (c) includes knowledge of early mathematics and literacy development and effective instructional practices to support mathematics and literacy development in young children; (d) incorporates effective use of data to guide instruction and program improvement; (e) includes effective behavior management strategies that promote positive social emotional development and reduce challenging behaviors; and (f) incorporates feedback from experts at the State's postsecondary institutions and other early learning and development experts and early childhood educators.

⁴ As defined in RTT-ELC, “early childhood educator” means any professional working in an early learning and development program, including but not limited to, center-based and family child care providers; infant and toddler specialists; early intervention specialists and early childhood special educators; home visitors; related services providers; administrators such as directors, supervisors, and other early learning and development leaders; Head Start teachers; Early Head Start teachers; preschool and other teachers; teacher assistants; family service staff; and health coordinators.

Notwithstanding the work currently being done under the RTT-ELC program, and while early childhood programs within States are moving toward more integrated early childhood professional development systems, States need assistance to develop, implement, and improve personnel systems that are focused on providing services to infants, toddlers and preschool children with disabilities and their families. Across States, there are wide variations in the quality of implementation of the components of these systems, the alignment of these components to create a comprehensive professional development system, and the integration of IDEA Part C and IDEA Part B preschool professional development systems with other early childhood professional development systems (NPDCI, 2011). Thus, States, including those funded under RTT-ELC, specifically need assistance in: aligning their personnel standards to national professional organization standards for providing services to infants, toddlers, and preschool children with disabilities and their families; ensuring that those standards are aligned or integrated with State standards for early childhood personnel of all children, linking those standards to applicable State competencies and certification or licensure requirements to ensure that all early childhood personnel are qualified to work with infants, toddlers, and preschool children, including those with disabilities and their families; developing collaborative relationships with IHEs to support alignment between preservice and inservice training and the increased use of evidence-based professional development practices to improve services for infants, toddlers, and preschool children with disabilities; and ensuring that States include personnel serving infants, toddlers, and preschool children with disabilities and their families in their career pathway initiatives (e.g., workforce registries, career ladders, and incentive programs). The proposed Early Childhood Personnel Center would provide technical assistance (TA) to address State needs in these areas.

Priority:

The purpose of this priority is to fund a cooperative agreement to support the establishment and operation of an Early Childhood Personnel Center (Center) to: (1) Serve as a national resource on personnel standards, competencies, and recommended practices for professional development for personnel providing services to infants, toddlers, and preschool children with disabilities and their families; (2) assist States in aligning their personnel standards to national professional organization standards for all personnel providing services to infants, toddlers, and preschool children with disabilities and their families, aligning or integrating those standards with standards for early childhood personnel of all children, and linking those standards to State competencies and certification or licensure requirements; (3) assist State agencies and IHEs in developing partnerships with each other to support alignment between preservice and inservice training for all personnel providing services to infants, toddlers and preschool children with disabilities and their families; and (4) in alignment with the vision outlined in RTT-ELC, assist States in developing integrated early childhood professional development systems to ensure that IDEA Part C and Part B preschool programs and personnel in each State are included within the State's professional development initiatives and that all early childhood personnel have the competencies to effectively serve infants, toddlers, and preschool children with disabilities and their families.

To be considered for funding under this absolute priority, applicants must meet the application requirements contained in this priority. Any project funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities that is linked to the proposed project's logic model. The plan must describe how the formative evaluation will use clear performance objectives to ensure continuous improvement in the operation of the proposed project, including objective measures of progress in implementing the project and ensuring the quality of products and services. This plan must include how the Center will collect data on all components of the Center's activities;

(d) A budget for a summative evaluation to be conducted by an independent third party, who must be approved by OSEP;

(e) A budget that dedicates $50,000 in year one of the project to cover the costs of carrying out the task described in paragraph (b) of the Knowledge Development Activities section of this priority.

(f) A budget for attendance at the following:

(1) A two-day kick-off meeting to be held in Washington, DC, after receipt of the award, and an annual planning meeting held in Washington, DC, with the OSEP Project Officer during each subsequent year of the project period.

Note: Within 30 days of receipt of the award, a post-award teleconference must be held between the OSEP Project Officer and the grantee's Project Director or other authorized representative;

(2) A three-day Project Directors' Conference in Washington, DC, during each year of the project period;

(3) A three-day Leveraging Resources conference in Washington, DC, during each year of the project period;

(4) Two two-day trips annually to attend Department briefings, Department-sponsored conferences, and other meetings, as requested by OSEP; and

(g) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities.

(a) In the first six months of the project period, identify and document the current status of each State in regards to:

(1) The State's IDEA Part C and Part B preschool personnel standards and competencies, as well as certification or licensure requirements;

(2) How IDEA Part C and Part B preschool programs in the State and personnel working in the programs are integrated into the State's early childhood professional development systems and initiatives; and

(3) The State's efforts to develop personnel standards and competencies for serving infants, toddlers, and preschool children with disabilities for personnel working in early childhood programs other than IDEA Part C and Part B preschool programs (e.g., Early Head Start, Head Start, Child Care).

(b) In the first year of the project period, collaborate with the DEC and the Early Childhood Technical Assistance Center, if funded by OSEP, to update the set of empirically supported recommendations for professional development practices for personnel providing services to infants, toddlers, and preschool children with disabilities and their families in both preservice and inservice contexts. These recommendations must be made available at no cost to consumers as part of the Technical Assistance and Dissemination Activities described below.

(c) In the first year of the project period, bring together national professional organizations to facilitate the development of a set of recommended unified personnel standards that could be used across States and IHEs preparing personnel to serve infants, toddlers, and preschool children with disabilities and their families.

(d) In the first year of the project period, conduct a review of the literature on components of successful:

(1) Models of State agency and IHE partnerships that have led to the alignment of State personnel standards and competencies and the curricula at IHEs; and the alignment of preservice and inservice training.

(2) Models of coordination at a systems level to promote a more integrated early childhood professional development system for personnel working with infants, toddlers, and preschool children with disabilities and their families.

The standards for the literature review must be consistent with those used by the What Works Clearinghouse and the definitions of “strong evidence” and “moderate evidence” contained in the notice of final supplemental priorities and definitions for discretionary grants programs, published in the Federal Register on December 15, 2010 (75 FR 78486), and corrected on May 12, 2011 (76 FR 27637).

Technical Assistance and Dissemination Activities.

(a) Provide a continuum of TA and dissemination activities to improve and integrate early childhood professional development systems with one another so that early childhood personnel have the competencies to support the learning and development of infants, toddlers, and preschool children with disabilities and their families and ensure that TA activities are coordinated with, and not duplicative of, State activities carried out under the RTT-ELC. This TA must include—

(1) General TA to States, early childhood programs, early childhood personnel, IHEs, faculty, professional development providers, and other relevant stakeholders. At a minimum, the Center must conduct the following activities:

(i) Develop and disseminate reports, products, and other materials at no cost to consumers that include:

(A) Information on personnel standards and competencies, as well as certification or licensure requirements, and early childhood professional development systems in each State, including a description of each State's efforts to ensure and enhance the quality of early childhood personnel working with infants, toddlers, and preschool children with disabilities and their families.

(B) Current recommendations for effective professional development practices in preservice and inservice contexts to support personnel in developing the competencies to provide effective services and evidence-based interventions for infants, toddlers, and preschool children with disabilities and their families.

(C) Strategies for developing State agency and IHE partnerships to develop an integrated and comprehensive early childhood professional development system that addresses the needs of personnel working with infants, toddlers, and preschool children with disabilities and their families.

(ii) Maintain a Web site that meets government or industry-recognized standards for accessibility and that links to the Web site operated by the Technical Assistance Coordination Center (TACC);

(2) Targeted TA to States and IHEs to ensure that early childhood personnel have the competencies to serve infants, toddlers, and preschool children with disabilities and their families. At minimum, the Center must conduct the following activities:

(i) Provide a forum for States to collaborate through learning communities, communities of practice, national calls, webinars, or other mechanisms to learn about personnel standards and competencies for personnel working with infants, toddlers, and preschool children with disabilities and their families and how to use current recommended practices in professional development activities.

(ii) Provide a forum for IHEs to collaborate through learning communities, communities of practice, national calls, webinars, or other mechanisms to learn how to align their programs to State personnel standards and competencies for personnel working with infants, toddlers, and preschool children with disabilities and their families and how to use current recommended practices in professional development activities.

(iii) Plan and implement activities, which could include webinars, meetings, video conferences, and Web sites to support States and IHEs forming and sustaining partnerships to support alignment between preservice and inservice training for personnel working with infants, toddlers, and preschool children with disabilities and their families.

(iv) Assist States, including States awarded grants through RTT-ELC, in their efforts to include IDEA Part C and Part B preschool programs and providers in their integrated early childhood professional development systems and initiatives; and

(3) Intensive TA to a minimum of eight States to enhance their IDEA Part C and Part B preschool professional development systems and to support the development of integrated comprehensive early childhood professional development systems to ensure that all personnel have the competencies to effectively serve infants, toddlers, and preschool children with disabilities and their families. At a minimum, the Center must conduct the following activities:

(i) Assist the States receiving intensive TA under paragraph (a)(3) of this section to align their personnel standards for personnel working with infants, toddlers, and preschool children with disabilities and their families with a set of recommended unified national professional organization personnel standards, align or integrate those standards with standards for early childhood personnel of all children, and link their State standards to competencies and certification or licensure requirements in their IDEA Part C and Part B programs.

(ii) Assist the States receiving intensive TA under this section and IHEs in those States in developing partnerships to ensure that preservice preparation programs in early intervention and early childhood special education are aligned to State personnel standards and competencies, that inservice training builds on preservice preparation in early intervention and special education, and that recommended practices for professional development are included in both preservice and inservice programs.

(iii) Assist the States receiving intensive TA under this section in developing an integrated professional development system applicable to personnel in all programs serving infants, toddlers, and preschool children with disabilities and their families to ensure that—

(A) Workforce knowledge and competency frameworks and personnel standards within the State include competencies needed to work with infants, toddlers, and preschool children with disabilities and their families;

(B) Professional development opportunities in a State are available and provided across all early childhood programs that serve children with disabilities and include professional development on serving infants and toddlers with disabilities and their families in natural environments, and preschool children with disabilities in inclusive settings; and

(C) IDEA Part C and Part B preschool programs and providers are considered and included when developing and implementing personnel initiatives in the State.

(b) Develop a plan for identifying and selecting the States with which the Center will work under paragraph (a)(3) of this section. Factors for selecting States for consideration could include the State's early childhood priorities and initiatives; receipt of an RTT-ELC grant; the commitment of the State's multiple early childhood programs to participate in the TA to support the professional development of all personnel who serve infants, toddlers, and preschool children with disabilities and their families; the commitment of the State's IHEs, including community colleges to participate in the TA; the commitment of the early intervention and community-based early childhood programs in high-need local educational agencies (LEAs) ⁵ in the State to participate in the TA; and the demographic and geographic characteristics of each State, including the percentage of high-need children with disabilities ⁶ and their families. The Center must obtain approval from OSEP on the final selection of States.

⁵ For the purpose of this priority, the term “high-need local educational agency” (LEA) means an LEA (a) that serves not fewer than 10,000 children from families with incomes below the poverty line; or (b) for which not less than 20 percent of the children served by the LEA are from families with incomes below the poverty line.

⁶ For the purpose of this priority, “high-need children with disabilities” refers to children (ages birth through 5) who are eligible for services under IDEA, and who may be further disadvantaged and at risk of educational failure because they: (1) Are living in poverty, (2) are homeless, (3) are in foster care, (4) are English learners, (5) are new immigrants, or (6) are migrant.

(c) In consultation with the OSEP Project Officer, make selected reports, documents, and other materials available in both English and Spanish.

Leadership and Coordination Activities.

(a) Consult with a group of persons, including representatives from State and local educational agencies, including representatives from IDEA Part C and Part B preschool programs; State level representatives from other early child systems (e.g., State Child Care Administrators and Head Start Collaboration Directors); early childhood personnel; parents of infants, toddlers, or preschool children with disabilities; faculty in personnel preparation; and researchers, as appropriate, on the activities and outcomes of the Center and solicit programmatic support and advice from various participants in the group, as appropriate. The Center may convene meetings, whether in person, by phone, or other means, for this purpose, or may consult with group participants individually. The Center must identify the members of the group to OSEP within eight weeks after receipt of the award.

(b) Communicate and collaborate, on an ongoing basis, with OSEP-funded projects, including the TACC and other early childhood-focused centers, as appropriate, as well as other U.S. Department of Education and U.S. Department of Health and Human Services-funded early childhood-focused centers, as appropriate. This collaboration could include the joint development of products, the coordination of TA services, and the planning and carrying out of TA meetings and events.

(c) Participate in national initiatives related to early childhood professional development systems.

(d) Prior to developing any new product, submit a proposal for the product to the TACC database for approval from the OSEP Project Officer. The development of new products should be consistent with the product definition and guidelines posted on the TACC Web site (www.tadnet.org).

(e) Contribute, on an ongoing basis, updated information on the Center's approved and finalized products and services to a database at TACC.

(f) Maintain ongoing communication with the OSEP Project Officer through monthly phone conversations and email communication.

Fourth and Fifth Years of Project:

In deciding whether to continue funding the Center for the fourth and fifth years, the Secretary will consider the requirements of 34 CFR 75.253(a) and in addition—

(a) The recommendation of a review team consisting of experts selected by the Secretary. This review will be conducted during a one-day intensive meeting in Washington, DC, during the last half of the project's second year. The Center must budget for travel expenses associated with this one-day intensive review;

(b) The timeliness and effectiveness with which all requirements of the negotiated cooperative agreement have been or are being met by the Center; and

(c) The quality, relevance, and usefulness of the Center's activities and the degree to which the Center's activities have contributed to changed practices and improved early childhood professional development systems to improve outcomes for infants, toddlers, and preschool children with disabilities and their families.

References:

Bruder, M.B. (2010). Early childhood intervention: A promise to children and families for their future. Exceptional Children, 76(3), 339-355.

LeMoine, S. (2008). Workforce Designs: A policy blueprint for state early childhood professional development systems. Washington, DC: National Association for the Education of Young Children.

National Governor's Association (NGA), Center for Best Practices. (2010). Issue Brief: Building an Early Childhood Professional Development System. Available from: www.nga.org/files/live/sites/NGA/files/pdf/1002EARLYCHILDPROFDEV.PDF.

National Professional Development Center on Inclusion (NPDCI). (2010). Building integrated professional development systems in early childhood: Recommendations for states. Chapel Hill, NC: The University of North Carolina, FPG Child Development Institute.

National Professional Development Center on Inclusion (NPDCI). (2011). Competencies for early childhood educators in the context of inclusion: Issues and guidance for states. Chapel Hill, NC: The University of North Carolina, FPG Child Development Institute.

Stayton, V.D., Dietrich, S.L., Smith, B.J., Bruder, M.B., Mogro-Wilson, C., & Swigart, A. (2009). State certification requirements for early childhood special educators. Infants and Young Children, 22(1), 4-12.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1462 and 1481.

Applicable Regulations: (a) The Education Department General Administrative Regulations (EDGAR) in 34 CFR parts 74, 75, 77, 79, 80, 81, 82, 84, 86, 97, 98, and 99. (b) The Education Department debarment and suspension regulations in 2 CFR part 3485. (c) The regulations for this program in 34 CFR part 304.

Note: The regulations in 34 CFR part 79 apply to all applicants except federally recognized Indian tribes.

Note: The regulations in 34 CFR part 86 apply to IHEs only.

II. Award Information

Type of Award: Discretionary grants.

Estimated Available Funds: $1,200,000.

Contingent upon the availability of funds and the quality of applications, we may make additional awards in FY 2013 from the list of unfunded applicants from this competition.

Maximum Award: We will reject any application that proposes a budget exceeding $1,200,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36 month award and the 24 month extension.

III. Eligibility Information

1. Eligible Applicants: State educational agencies and State lead agencies; LEAs, including public charter schools that are considered LEAs under State law; IHEs; other public agencies; private nonprofit organizations; outlying areas; freely associated States; Indian tribes or tribal organizations; and for-profit organizations.

2. Cost Sharing or Matching: This program does not require cost sharing or matching.

3. Other: General Requirements—(a) The projects funded under this program must make positive efforts to employ and advance in employment qualified individuals with disabilities (see section 606 of IDEA).

(b) Each applicant and grant recipient funded under this program must involve individuals with disabilities or parents of individuals with disabilities ages birth through 26 in planning, implementing, and evaluating the project (see section 682(a)(1)(A) of IDEA).

IV. Application and Submission Information

1. Address to Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325B.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative in Part III.

We will reject your application if you exceed the page limit; or if you apply other standards and exceed the equivalent of the page limit.

3. Submission Dates and Times:

Applications Available: June 18, 2012.

Deadline for Transmittal of Applications: July 18, 2012.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications.

We are participating as a partner in the Governmentwide Grants.gov Apply site. The Early Childhood Personnel Center, CFDA number 84.325B, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the Early Childhood Personnel Center at www.Grants.gov. You must search for the downloadable application package for this program by the CFDA number. Do not include the CFDA number's alpha suffix in your search (e.g., search for 84.325, not 84.325B).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.325B), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.325B), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. For purposes of this priority, the Center will use these measures which focus on the extent to which projects provide high-quality products and services, the relevance of project products and services to educational and early intervention policy and practice, and the use of products and services to improve educational and early intervention policy and practice.

Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Dawn Ellis, U.S. Department of Education, 400 Maryland Avenue SW., room 4092, Potomac Center Plaza (PCP), Washington, DC 20202-2600. Telephone: (202) 245-6417.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 12, 2012.
Alexa Posny,
Assistant Secretary for Special Education and Rehabilitative Services.

[FR Doc. 2012-14812 Filed 6-15-12; 8:45 am]

BILLING CODE 4000-01-P